DEPARTMENT OF THE INTERIOR

Bureau of Land Management

[LLWO3200000-L19900000.PP0000; OMB Control Number 1004-0114]

Renewal of Approved Information Collection

AGENCY: Bureau of Land Management, Interior.

ACTION: 30-day Notice and request for comments.

SUMMARY: The Bureau of Land Management (BLM) has submitted an information collection request to the Office of Management and Budget (OMB) for a 3-year renewal of OMB Control Number 1004-0114 under the Paperwork Reduction Act. This control number covers paperwork requirements in 43 CFR parts 3832 through 3838, which pertain to mining claims, mill sites, and tunnel sites.

DATES: The OMB is required to respond to this information collection request within 60 days but may respond after 30 days. Therefore, written comments should be received on or before March 29, 2010.

ADDRESSES: You may submit comments directly to the Desk Officer for the Department of the Interior (OMB #1004-0114), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to jean_sonneman@blm.gov.

FOR FURTHER INFORMATION CONTACT: You may contact Sonia Santillan, Mineral Leasing Specialist, Bureau of Land Management, Division of Solid Minerals, (202) 452-0398 (Commercial or FTS). Persons who use a telecommunication device for the deaf (TDD) may call the Federal Information Relay Service (FIRS) on 1-800-877-8330, to contact Ms. Santillan.

SUPPLEMENTARY INFORMATION: Title: Recordation of Location Notices and Mining Claims; Payment of Fees (43 CFR parts 3832-3838).

OMB Control Number: 1004-0114.

Abstract: This notice pertains to information collections that are necessary for the recordation of mining claims, mill sites, and tunnel sites; the annual maintenance of such claims and sites; location and maintenance fee waivers; and the adjudication of mineral rights. The information collections covered by this notice are found at 43 CFR parts 3832 through 3838, and in the following forms:

• Form 3830-2, Maintenance Fee Waiver Certification; and

• Form 3830-3, Notice of Intent to Locate a Lode or Placer Mining Claim(s) and/or a Tunnel Site(s) on Lands Patented under the Stock Raising Homestead Act of 1916, as Amended by the Act of April 16, 1993.

60-Day Notice: As required in 5 CFR 1320.8(d), the BLM published a 60-day notice in the Federal Register on July 31, 2009 (74 FR 38215), soliciting comments from the public and other interested parties. The comment period closed on September 29, 2009. The BLM did not receive any comments from the public in response to this notice or unsolicited comments from respondents covered under these regulations.

Type of Review: Revision of a currently approved information collection.

Affected Public: Individuals, associations, and corporations seeking to obtain or maintain interests under the General Mining Law and other mining statutes.

Obligation To Respond: Required to obtain or retain benefits.

Annual Responses: 197,154.

Completion Time per Response: Varies from 20 to 30 minutes.

Annual Burden Hours: 97,658.

Annual Non-hour Burden Cost: $1,629,025 for document processing fees associated with some of these information collection requirements.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0114 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-3937 Filed 2-25-10; 8:45 am]

BILLING CODE 4310-84-P